DEPARTMENT OF COMMERCE

National Oceanic and Atmospheric Administration

[I.D. 072005A]

Marine Mammals; Permit No. 699-1720-01

AGENCY: National Marine Fisheries Service (NMFS), National Oceanic and Atmospheric Administration (NOAA), Commerce.

ACTION: Notice; receipt of application for amendment.

SUMMARY: Notice is hereby given that Dr. Kathryn A. Ono, Associate Professor, Department of Biological Sciences, University of New England, 11 Hills Beach Road, Biddeford, ME, 04005, has requested an amendment to scientific research Permit No. 699-1720-01.

DATES: Written, telefaxed, or e-mail comments must be received on or before August 25, 2005.

ADDRESSES: The amendment request and related documents are available for review upon written request or by appointment in the following office(s):

Permits, Conservation and Education Division, Office of Protected Resources, NMFS, 1315 East-West Highway, Room 13705, Silver Spring, MD 20910; phone (301)713-2289; fax (301)427-2521; and

Assistant Regional Administrator for Protected Resources, Northeast Region, NMFS, One Blackburn Drive, Gloucester, MA 01930-2298; phone (978)281-9328; fax (987)281-9394.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 699-1720-01.

FOR FURTHER INFORMATION CONTACT: Ruth Johnson or Tammy Adams, (301)713-2289.

SUPPLEMENTARY INFORMATION: The subject amendment to Permit No. 699-1720-01, issued on July 23, 2003 (68 FR 59163) is requested under the authority of the Marine Mammal Protection Act of 1972, as amended (16 U.S.C. 1361 et seq.), and the Regulations Governing the Taking and Importing of Marine Mammals (50 CFR part 216).

Permit No. 699-1720-01 authorizes the permit holder to take harbor seals (Phoca vitulina concolor) annually by capture, physical restraint, morphometric measurements, placement of flipper tags, blood sampling, fecal sampling, skin biopsy, attachment of satellite tags, incidental harassment, and accidental mortality. Incidental harassment and accidental capture of small numbers of gray seals (Halichoerus grypus), harp seals (Phoca groenlandica), and hooded seals (Cystophora cristata) are also authorized.

The permit holder now requests authorization to extend the sampling location authorized under Permit No. 699-1720-01 from the coast of Maine through to the Massachusetts/Rhode Island border.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: July 20, 2005.
Stephen L. Leathery,
Chief, Permits, Conservation and Education Division, Office of Protected Resources, National Marine Fisheries Service.

[FR Doc. 05-14723 Filed 7-25-05; 8:45 am]

BILLING CODE 3510-22-S